DEPARTMENT OF COMMERCE

National Oceanic and Atmospheric Administration

RIN 0648-XD219

Fisheries of the South Atlantic; South Atlantic Fishery Management Council (Council); Public Meeting

AGENCY: National Marine Fisheries Service (NMFS), National Oceanic and Atmospheric Administration (NOAA), Department of Commerce.

ACTION: Notice of public meetings.

SUMMARY: The South Atlantic Fishery Management Council (SAFMC) will hold meetings of its Information & Education Advisory Panel (AP) Meeting and Science Communication Workshop; Deepwater Shrimp AP; and Coral AP, in North Charleston, SC.

DATES: The meetings will be held from 8 a.m. on Monday, May 5, 2014 until 4:30 p.m. on Thursday, May 8, 2014.

ADDRESSES: The meetings will be held at the Crowne Plaza Hotel, 4831 Tanger Outlet Blvd., North Charleston, SC 29418; telephone: (877) 227-6963 or (843) 744-4422; fax: (843) 744-4472.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Information & Education AP Agenda & Science Communication Workshop, Monday, May 5, 2014, 8 a.m. Until 5 p.m. Tuesday, May 6, 2014

1. Receive an update on SAFMC outreach activities 2013-14.

2. Receive an overview and update on the Council's Snapper Grouper Visioning Project and port meetings.

3. Review the draft Oculina Evaluation Team Report.

4. Receive an update on the Marine Resources Education Program (MREP) for the Southeast region.

5. Elect a new Chairperson and Vice-Chair for the AP.

6. Discuss the principles of effective science communication as well as the creation of effective science communication products.

Deepwater Shrimp AP Agenda, Tuesday May 6, 2014, 1 p.m. Through 12 Noon Wednesday, May 7, 2014

1. Receive a status update on Coral Amendment 8, pertaining to Coral Habitat Areas of Particular Concern (HAPCs) and transit through the Oculina Bank HAPC.

2. Review the draft Oculina Evaluation Team Report.

3. Provide input on potential changes to HAPCs (Coral Amendment 9).

Coral AP Agenda, Wednesday, May 7, 2014, 1 p.m. Through 4:30 p.m. Thursday, May 8, 2014

1. Receive a status update on Coral Amendment 8.

2. Receive a status update of the SAFMC's Cooperative Agreement proposal with NOAA's Coral Reef Conservation Program.

3. Review the draft Oculina Evaluation Team Report.

4. Provide input for potential changes to HAPCs (Coral Amendment 9).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: April 8, 2014.
Tracey L. Thompson,
Acting Deputy Director, Office of Sustainable Fisheries, National Marine Fisheries Service.

[FR Doc. 2014-08147 Filed 4-10-14; 8:45 am]

BILLING CODE 3510-22-P